DEPARTMENT OF JUSTICE

Notice of Lodging Proposed Consent Decree

In accordance with Departmental Policy, 28 CFR 50.7, notice is hereby given that a proposed Consent Decree in United States, et al. v. Antero Resources Corp., Civil Action No. 1:19-cv-00020-TSK, was lodged with the United States District Court for the Northern District of West Virginia, Clarksburg Division, on February 11, 2019.

This proposed Consent Decree concerns a complaint filed by the United States and the State of West Virginia against Antero Resources Corporation, pursuant to Section 301(a) of the Clean Water Act, 33 U.S.C. 1311(a), and the West Virginia Water Pollution Control Act, W. Va. Code Chapter 22, Article 11, et seq., to obtain injunctive relief from, and impose civil penalties on, the Defendant in connection with alleged discharges of pollutants at various locations in Harrison, Doddridge, and Tyler Counties in West Virginia and for violating the Clean Water Act by discharging pollutants without a permit into waters of the United States. The proposed Consent Decree resolves these allegations by requiring the Defendant to restore the impacted areas, perform mitigation, and pay a civil penalty.

The Department of Justice will accept written comments relating to this proposed Consent Decree for thirty (30) days from the date of publication of this Notice. Please address comments to Patrick R. Jacobi, Trial Attorney, United States Department of Justice, Environment and Natural Resources Division, Environmental Defense Section, Denver Place Building, 999 18th Street, Suite 370—South Terrace, Denver, CO 80202, and refer to United States, et al. v. Antero Resources Corp., DJ #90-5-1-1-19240.

The proposed Consent Decree may be examined at the Clerk's Office, United States District Court for the Northern District of West Virginia, Clarksburg Division, 500 West Pike Street, Room 301, Clarksburg, WV 26302. In addition, the proposed Consent Decree may be examined electronically at http://www.justice.gov/enrd/Consent_Decrees.html.

Cherie L. Rogers,
Assistant Section Chief, Environmental Defense Section, Environment and Natural Resources Division.

[FR Doc. 2019-02449 Filed 2-14-19; 8:45 am]

BILLING CODE 4410-15-P